DEPARTMENT OF THE INTERIOR

Bureau of Land Management

[LLWYD01000-2009-LL13100000-NB0000-LXSI016K0000]

Notice of Meetings of the Pinedale Anticline Working Group, Wyoming

AGENCY: Bureau of Land Management, Interior.

ACTION: Notice.

SUMMARY: In accordance with the Federal Land Policy and Management Act of 1976 and the Federal Advisory Committee Act of 1972 (FACA), the U.S. Department of the Interior, Bureau of Land Management (BLM) announces that the Pinedale Anticline Working Group (PAWG) will conduct meetings and a field tour in Pinedale, Wyoming. All meetings and tours are open to the public.

DATES: The PAWG will meet on the following dates: August 3, 2011, and November 8, 2011, beginning at 9 a.m. Mountain Time at the BLM Pinedale Field Office. A field tour of the Pinedale Anticline Project Area (PAPA) will also be held on August 2, 2011 at 10 a.m. Mountain Time. Members of the public are asked to RSVP no later than 1 week prior to the field tour to Shelley Gregory, BLM Pinedale Field Office, P.O. Box 768, Pinedale, Wyoming 82941; 307-315-0612; ssgregory@blm.gov.

ADDRESSES: BLM Pinedale Field Office, 1625 West Pine Street, Pinedale, Wyoming.

FOR FURTHER INFORMATION CONTACT: Shelley Gregory, BLM Pinedale Field Office, 1625 West Pine Street, P.O. Box 768, Pinedale, Wyoming 82941; 307-315-0612; ssgregory@blm.gov. Persons who use a telecommunications device for the deaf (TDD), may call the Federal Information Relay Service (FIRS) at 1-800-877-8339 to contact the above individual during normal business hours. The FIRS is available 24 hours a day, 7 days a week, to leave a message or question with the above individual. You will receive a reply during normal business hours.

SUPPLEMENTARY INFORMATION: The PAWG was established by the Environmental Impact Statement (EIS) Record of Decision (ROD) for the PAPA on July 27, 2000, and carried forward with the release of the ROD for the PAPA Supplemental EIS on September 12, 2008.

The PAWG is a FACA-chartered group which develops recommendations and provides advice to the BLM on mitigation, monitoring, and adaptive management issues as oil and gas development in the PAPA proceeds.

Additional information about the PAWG can be found at: http://www.blm.gov/wy/st/en/field_offices/pinedale/pawg.html.

Donald A. Simpson,
State Director.

[FR Doc. 2011-9704 Filed 4-21-11; 8:45 am]

BILLING CODE 4310-22-P